DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessels placed on the SDN List have been identified as property in which a block person has an interest.

DATES: This action was issued on November 14, 2024. See SUPPLEMENTARY INFORMATION section for relevant dates.

FOR FURTHER INFORMATION CONTACT: OFAC: Associate Director for Global Targeting, tel.: 202-622-2420; or Assistant Director for Sanctions Compliance, tel.: 202-622-2490 or https://ofac.treasury.gov/contact-ofac.

SUPPLEMENTARY INFORMATION:

Electronic Availability

The SDN List and additional information concerning OFAC sanctions programs are available on OFAC's website: https://ofac.treasury.gov.

Notice of OFAC Action

On November 14, 2024, OFAC determined that the property and interests in property subject to U.S. jurisdiction of the following persons are blocked under the relevant sanctions authorities listed below.

BILLING CODE 4810-AL-P

BILLING CODE 4810-AL-C

On November 14, 2024, OFAC also identified the following vessels as property in which a blocked person has an interest under the relevant sanctions authority listed below.

Vessels

1. CELINE (3E2126) Crude Oil Tanker Panama flag; Secondary sanctions risk: section 1(b) of Executive Order 13224, as amended by Executive Order 13886; Vessel Registration Identification IMO 9305609; MMSI 352001369 (vessel) [SDGT] (Linked To: SALINA SHIP MANAGEMENT PVT LTD).

Identified as property in which SALINA SHIP MANAGEMENT PVT LTD, a person whose property and interests in property are blocked pursuant to E.O. 13224, as amended, has an interest.

2. ELINE (8PAA5) Crude Oil Tanker Barbados flag; Secondary sanctions risk: section 1(b) of Executive Order 13224, as amended by Executive Order 13886; Vessel Registration Identification IMO 9292486; MMSI 314856000 (vessel) [SDGT] (Linked To: SALINA SHIP MANAGEMENT PVT LTD).

Identified as property in which SALINA SHIP MANAGEMENT PVT LTD, a person whose property and interests in property are blocked pursuant to E.O. 13224, as amended, has an interest.

3. JOEL (T8A4642) Crude Oil Tanker Palau flag; Secondary sanctions risk: section 1(b) of Executive Order 13224, as amended by Executive Order 13886; Vessel Registration Identification IMO 9198094; MMSI 511101321 (vessel) [SDGT] (Linked To: BLUESPECTRUM SHIPPING S.A.).

Identified as property in which BLUESPECTRUM SHIPPING S.A., a person whose property and interests in property are blocked pursuant to E.O. 13224, as amended, has an interest.

4. LELIA (8PAB1) Crude Oil Tanker Barbados flag; Secondary sanctions risk: section 1(b) of Executive Order 13224, as amended by Executive Order 13886; Vessel Registration Identification IMO 9258870; MMSI 314861000 (vessel) [SDGT] (Linked To: SALINA SHIP MANAGEMENT PVT LTD).

Identified as property in which SALINA SHIP MANAGEMENT PVT LTD, a person whose property and interests in property are blocked pursuant to E.O. 13224, as amended, has an interest.

5. CHLOE (a.k.a. SAM 121) (8RAX1) Crude Oil Tanker Guyana flag; Secondary sanctions risk: section 1(b) of Executive Order 13224, as amended by Executive Order 13886; Vessel Registration Identification IMO 9173745; MMSI 750656000 (vessel) [SDGT] (Linked To: AL-QATIRJI COMPANY).

Identified as property in which AL-QATIRJI COMPANY, a person whose property and interests in property are blocked pursuant to E.O. 13224, as amended, has an interest.

6. LOTUS (EPNF3) Crude Oil Tanker Iran flag; Secondary sanctions risk: section 1(b) of Executive Order 13224, as amended by Executive Order 13886; Vessel Registration Identification IMO 9203784; MMSI 422300300 (vessel) [SDGT] (Linked To: AL-QATIRJI COMPANY).

Identified as property in which AL-QATIRJI COMPANY, a person whose property and interests in property are blocked pursuant to E.O. 13224, as amended, has an interest.

7. REX 1 (3EUU2) Crude Oil Tanker Panama flag; Secondary sanctions risk: section 1(b) of Executive Order 13224, as amended by Executive Order 13886; Vessel Registration Identification IMO 9219056; MMSI 372979000 (vessel) [SDGT] (Linked To: SOFTWATER NAVIGATION HOLDING LTD.).

Identified as property in which SOFTWATER NAVIGATION HOLDING LTD., a person whose property and interests in property are blocked pursuant to E.O. 13224, as amended, has an interest.

8. ROMINA (EPMH6) Crude Oil Tanker Iran flag; Secondary sanctions risk: section 1(b) of Executive Order 13224, as amended by Executive Order 13886; Vessel Registration Identification IMO 9114608; MMSI 422278900 (vessel) [SDGT] (Linked To: AMITIS JAZIREH KISH SHIP MANAGEMENT CO LLC).

Identified as property in which AMITIS JAZIREH KISH SHIP MANAGEMENT CO LLC, a person whose property and interests in property are blocked pursuant to E.O. 13224, as amended, has an interest.

9. LIA (a.k.a. DOMANI; a.k.a. GERD KNUTSEN; a.k.a. SERENITY) Crude Oil Tanker Guyana flag; Secondary sanctions risk: section 1(b) of Executive Order 13224, as amended by Executive Order 13886; Vessel Registration Identification IMO 9041057 (vessel) [SDGT] [VENEZUELA-EO13850] (Linked To: FIDES SHIP MANAGEMENT LLC; Linked To: NATIVA MANAGEMENT LTD).

Identified as property in which NATIVA MANAGEMENT LTD, a person whose property and interests in property are blocked pursuant to E.O. 13224, as amended, has an interest.

10. STAR 5 (EPPV7) Crude Oil Tanker Iran flag; Secondary sanctions risk: section 1(b) of Executive Order 13224, as amended by Executive Order 13886; Vessel Registration Identification IMO 9150377; MMSI 422362100 (vessel) [SDGT] (Linked To: MOSHTAQ TEJARAT SANAT CO JSC).

Identified as property in which MOSHTAQ TEJARAT SANAT CO JSC, a person whose property and interests in property are blocked pursuant to E.O. 13224, as amended, has an interest.

11. BARON (a.k.a. DARAN; a.k.a. UPMAN) (8RCB2) Chemical/Products Tanker Guyana flag; Secondary sanctions risk: section 1(b) of Executive Order 13224, as amended by Executive Order 13886; Vessel Registration Identification IMO 9080493; MMSI 667001798 (vessel) [SDGT] (Linked To: PEARL SHIPPING & TRADING LTD).

Identified as property in which PEARL SHIPPING & TRADING LTD, a person whose property and interests in property are blocked pursuant to E.O. 13224, as amended, has an interest.

12. MIA (a.k.a. FREEDOM; a.k.a. MAGUS) (8RCY1) Crude Oil Tanker Guyana flag; Secondary sanctions risk: section 1(b) of Executive Order 13224, as amended by Executive Order 13886; Vessel Registration Identification IMO 9018464 (vessel) [SDGT] [VENEZUELA-EO13850] (Linked To: FIDES SHIP MANAGEMENT LLC; Linked To: VELINE SHIPTRADE INCORPORATED).

Identified as property in which VELINE SHIPTRADE INCORPORATED, a person whose property and interests in property are blocked pursuant to E.O. 13224, as amended, has an interest.

13. RAMONA I (a.k.a. SHADI) (8RPE6) Crude Oil Tanker Guyana flag; Secondary sanctions risk: section 1(b) of Executive Order 13224, as amended by Executive Order 13886; Vessel Registration Identification IMO 9233222; MMSI 750925000 (vessel) [SDGT] (Linked To: ELIAS SHIPPING & TRADING GROUP SA).

Identified as property in which ELIAS SHIPPING & TRADING GROUP SA, a person whose property and interests in property are blocked pursuant to E.O. 13224, as amended, has an interest.

Lisa M. Palluconi,
Acting Director, Office of Foreign Assets Control.

[FR Doc. 2024-27073 Filed 11-19-24; 8:45 am]

BILLING CODE 4810-AL-P